DEPARTMENT OF LABOR

Employment and Training Administration

[TA-W-61,069; TA-W-61,069A; TA-W-61,069B]

Quaker Fabric Corporation of Fall River; Plants A/B-700, C-710 and J-720; Notice of Termination of Investigation

Pursuant to Section 221 of the Trade Act of 1974, an investigation was initiated on March 6, 2007 in response to a petition filed by the Trade Program Manager, Division of Career Service of Boston, Massachusetts on behalf of workers at Quaker Fabric Corporation of Fall River, Plant A/B-700, Fall River, Massachusetts, (TA-W-61,069), Plant C-710, Fall River, Massachusetts (TA-W-61,069A) and Plant J-720, Fall River, Massachusetts (TA-W-61,069B).

The petitioner has requested that the petition be withdrawn. Consequently, the investigation has been terminated.

Signed in Washington, DC, this 12th day of April 2007.
Elliott S. Kushner,
Certifying Officer, Division of Trade Adjustment Assistance.

[FR Doc. E7-7620 Filed 4-20-07; 8:45 am]

BILLING CODE 4510-FN-P